PRESIDIO TRUST

Presidio Theatre Building 99, The Presidio of San Francisco, CA; Notice of Intent to Prepare an Environmental Impact Statement

AGENCY: The Presidio Trust.

ACTION: Notice of intent to prepare an Environmental Impact Statement (EIS) for the rehabilitation and expansion of the Presidio Theatre (Building 99) within The Presidio of San Francisco, San Francisco, California (Presidio).

SUMMARY: The Presidio Trust (Trust) has received a proposal from one of its tenants, the San Francisco Film Centre, for rehabilitation and expansion of the Presidio Theatre (Theatre) within the Presidio. Pursuant to section 102(2)(C) of the National Environmental Policy Act of 1969 (Pub. L. 91-90 as amended) (NEPA), and the regulations promulgated by the Council on Environmental Quality (40 CFR 1505.2), the Trust has determined that an EIS rather than an Environmental Assessment, as previously noticed in the Federal Register (65 FR 20218), will better serve the agency to comply with the NEPA. Therefore, the Trust will prepare an EIS for rehabilitating the existing 15,140-square-foot Theatre and adding up to 45,000 square feet of new construction for theater uses, a restaurant, retail museum and library store (proposed action). The EIS will include a discussion of the significant environmental impacts, and will inform decisionmakers and the public of reasonable alternatives which would minimize adverse impacts or enhance the quality of the environment, including “no action” and reuse of existing buildings to avoid new construction. Based on a preliminary review of the proposed action and input received during scoping to date, issues and impact topics to be analyzed include: traffic and transportation systems; cultural resources (effect on national historic landmark district and archeological resources); hydrology and water quality; visual resources and scenic viewing; air quality; and noise.

Public Comment

The Trust will hold a second public workshop/open house on June 19, 2000 to solicit comment regarding the range of alternatives to be evaluated in the EIS. A tour of the Theatre will be conducted from 5:30 to 6 p.m.; those interested in the tour will meet at 5:30 p.m. on June 19, 2000 in front of the Theatre, which is located at the corner of Moraga Avenue and Montgomery Street on the Main Post in the Presidio. The workshop will run from 6 to 8 p.m. at the San Francisco Film Centre (Building 39), which is located opposite the flagpole at the top of Graham Street on the Main Post in the Presidio. The Trust has chosen to extend the public scoping period to July 28, 2000 to provide additional time for the public to comment on the project. Comments regarding the scope of alternatives and impacts that the Trust received before its decision to proceed with an EIS will still be considered. The Trust will provide other informal information updates and notices concerning this project through postings on its website at www.presidiotrust.gov or through its monthly publication, the Presidio Post. The Trust will announce the release of the EIS by notice in the Federal Register and the Presidio Post, and through a direct mailing to the affected public.

ADDRESSES: Written comments concerning this notice must be sent by July 28, 2000 to John Pelka, NEPA Compliance Coordinator, The Presidio Trust, 34 Graham Street, P.O. Box 29052, San Francisco, CA 94129-0052. Fax: 415-561-5315. E-mail: jpelka@presidiotrust.gov.

FOR FURTHER INFORMATION CONTACT: John Pelka, NEPA Compliance Coordinator, The Presidio Trust, 34 Graham Street, P.O. Box 29052, San Francisco, CA 94129-0052. Telephone: 415-561-5300.

Dated: June 5, 2000.
Karen A. Cook,
General Counsel.

[FR Doc. 00-14585 Filed 6-8-00; 8:45 am]

BILLING CODE 4310-4R-P